DEPARTMENT OF ENERGY

10 CFR Part 430

[EERE-2019-BT-STD-0018]

RIN 1904-AE12

Energy Conservation Program: Energy Conservation Standards for Distribution Transformers; Extension of Public Comment Period

AGENCY: Office of Energy Efficiency and Renewable Energy, Department of Energy.

ACTION: Notice of proposed rulemaking; extension of public comment period.

SUMMARY: On January 11, 2023, the U.S. Department of Energy (“DOE”) published a notice of proposed rulemaking and announcement of public meeting (“NOPR”) proposing amended energy conservation standards for distribution transformers, and also to announce a public meeting to receive comment on the proposed standards and associated analyses and results. The notice provided an opportunity for submitting written comments, data, and information by March 13, 2023. DOE received a request from Cleveland-Cliffs, Inc.; a joint request from the American Public Power Association (APPA), Edison Electric Institute (EEI) and the National Rural Electric Cooperative Association (NRECA); and a request from the International Union, United Automobile, Aerospace, and Agricultural Implement Workers of America (UAW) to extend the written comment period. DOE has reviewed these requests and is granting an extension of the comment period for 14 days to allow public comments to be submitted until March 27, 2023.

DATES: The comment period for the NOPR published on January 11, 2023 (88 FR 1722) is extended. DOE will accept comments, data, and information regarding this NOPR received no later than March 27, 2023.

ADDRESSES: Interested persons are encouraged to submit comments using the Federal eRulemaking Portal at www.regulations.gov. Follow the instructions for submitting comments. Alternatively, interested persons may submit comments, identified by docket number EERE-2019-BT-STD-0018, by any of the following methods:

Email: DistributionTransformers2019STD0018@ee.doe.gov. Include the docket number EERE-2019-BT-STD-0018 in the subject line of the message.

Postal Mail: Appliance and Equipment Standards Program, U.S. Department of Energy, Building Technologies Office, Mailstop EE-5B, 1000 Independence Avenue SW, Washington, DC 20585-0121. Telephone: (202) 287-1445. If possible, please submit all items on a compact disc (“CD”), in which case it is not necessary to include printed copies.

Hand Delivery/Courier: Appliance and Equipment Standards Program, U.S. Department of Energy, Building Technologies Office, 950 L'Enfant Plaza SW, 6th Floor, Washington, DC 20024. Telephone: (202) 287-1445. If possible, please submit all items on a CD, in which case it is not necessary to include printed copies.

No telefacsimiles (“faxes”) will be accepted.

Docket: The docket for this activity, which includes Federal Register notices, comments, and other supporting documents/materials, is available for review at www.regulations.gov. All documents in the docket are listed in the www.regulations.gov index. However, not all documents listed in the index may be publicly available, such as information that is exempt from public disclosure.

The docket web page can be found at www.regulations.gov/docket/EERE-2019-BT-STD-0018. The docket web page contains instructions on how to access all documents, including public comments, in the docket.

FOR FURTHER INFORMATION CONTACT:

Mr. Jeremy Dommu, U.S. Department of Energy, Office of Energy Efficiency and Renewable Energy, Building Technologies Office, EE-2J, 1000 Independence Avenue SW, Washington, DC 20585-0121. Telephone: (202) 586-9870. Email: ApplianceStandardsQuestions@ee.doe.gov.

Mr. Matthew Ring, U.S. Department of Energy, Office of the General Counsel, GC-33, 1000 Independence Avenue SW, Washington, DC 20585-0121. Telephone: (202) 586-2555. Email: matthew.ring@hq.doe.gov.

For further information on how to submit a comment, review other public comments and the docket, or participate in the public meeting, contact the Appliance and Equipment Standards Program staff at (202) 287-1445 or by email: ApplianceStandardsQuestions@ee.doe.gov.

SUPPLEMENTARY INFORMATION: On January 11, 2023, DOE published a notice of proposed rulemaking (“NOPR”) proposing amended energy conservation standards for distribution transformers, and also announced a public meeting to receive comment on these proposed standards and associated analyses and results. The notice provided an opportunity for submitting written comments, data, and information by March 13, 2023. 88 FR 1722. On January 12, 2023, Cleveland-Cliffs Inc. (“Cleveland Cliffs”), requested that DOE extend the deadline for the comment period on the NOPR by a minimum of 30 days. Cleveland Cliffs stated the proposal requires detailed technical and economic analysis by every facet of the transformer supply chain. (Cleveland Cliffs, No. 66 at p. 1). On January 30, 2023, the American Public Power Association (APPA), Edison Electric Institute (EEI), and the National Rural Electric Cooperative Association (NRECA) jointly requested an extension of the comment period extension for 60 additional days stating that an extension will provide valuable time for all parties to contemplate, consider, research, and meaningfully respond to the important issues implicated by the proposed rule. (APPA, EEI, and NRECA, No. 67 at p. 2). On February 12, 2023, the International Union, United Automobile, Aerospace, and Agricultural Implement Workers of America (UAW) requested an extension of the comment period for at least another 30 days. UAW stated that they are working to understand the full extent of the impact of the proposed standards on both their members and the communities that rely on electric power. (UAW, No. 68 at p. 1).

DOE has reviewed these requests and is extending the comment period by 14 days to allow additional time for interested parties to submit comments. DOE notes the complexities of the current distribution transformer market, including the intersection with steel manufacturing and diversification as well as labor concerns. DOE believes these complexities provide unique grounds that warrant additional time, which will allow for meaningful input on DOE's proposed energy conservation standards for distribution transformers from all stakeholders. DOE believes 14 days is sufficient for these purposes. Therefore, DOE is extending the comment period until March 27, 2023.

Signing Authority

This document of the Department of Energy was signed on February 14, 2023, by Francisco Alejandro Moreno, Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 15, 2023.
Treena V. Garrett,
Federal Register Liaison Officer, U.S. Department of Energy.

[FR Doc. 2023-03547 Filed 2-21-23; 8:45 am]

BILLING CODE 6450-01-P